DEPARTMENT OF TRANSPORTATION

Pipeline and Hazardous Materials Safety Administration

[Docket No. PHMSA-2013-0185]

Pipeline Safety: Notice to Operators of Hazardous Liquid and Natural Gas Pipelines of a Recall on Leak Repair Clamps Due to Defective Seal

AGENCY: Pipeline and Hazardous Materials Safety Administration (PHMSA), DOT.

ACTION: Notice; Issuance of Advisory Bulletin.

SUMMARY: PHMSA is issuing an Advisory Bulletin to alert all pipeline operators of a T.D. Williamson, Inc. (TDW) Leak Repair Clamp (LRC) recall issued by TDW on June 17, 2013. The recall covers all TDW LRCs of any pressure class and any size. The LRCs may develop a dangerous leak due to a defective seal. Hazardous liquid and natural gas pipeline operators should verify if they have any TDW LRCs subject to the recall by reviewing their records and equipment for installation of these LRCs. Operators with TDW LRCs should discontinue use immediately and contact TDW for further recall instructions. Operators can obtain recall information through TDW's Web site at http://lrc.tdwilliamson.com/ or by calling TDW at 888-770-7085.

ADDRESSES: This document can be viewed on the PHMSA home page at: http://www.phmsa.dot.gov.

FOR FURTHER INFORMATION CONTACT: Ken Lee by phone at 202-366-2694 or by email at kenneth.lee@dot.gov.

SUPPLEMENTARY INFORMATION:

I. Background

On July 17, 2013, TDW issued a recall of its LRCs. The recall covers any TDW LRC of any pressure class or any size. The TDW LRC is a hinged split sleeve that is designed to fit around the damaged area of the affected pipe and provide a sealing barrier to arrest leaking product. The seal is activated when applied pressure from bolts causes the internal seal to encapsulate the leak. TDW specifies that this clamp provides temporary repair only when it is bolted closed. TDW designates the LRC as a permanent repair when it is welded shut; this is analogous to a full encirclement welded split sleeve with welded ends (e.g., B-Type Sleeve). The LRC may leak when it is installed in the bolted-closed position. According to TDW, when the LRC is completely welded shut the defective seal is encapsulated and no leakage is expected.

The LRCs subject to the recall were manufactured for TDW from September 2002 through August 2012 to the specifications of API 6H “Specification on End Closures, Connectors, and Swivels.” Ranging in size from two-inches to 48-inches, the LRCs are designed for pressure classes of 150, 300, 400, 600 and 900 in accordance with ASME/ANSI B16.5 Pipe Flanges and Flanged Fittings. These LRCs were manufactured for use on hazardous liquid and natural gas pipelines.

TDW investigated an installed LRC, which indicated leakage, and determined that the manufactured seal was defective and could potentially be dangerous to public safety. Subsequently due to this investigation, TDW conducted a study through an independent laboratory to identify the failure mechanism, determine repair options, and evaluate the fitness of all existing LRCs. TDW concluded that a recall was necessary and urges all of its customers to stop using its existing TDW LRCs and contact TDW immediately.

TDW has assigned personnel to follow-up and communicate directly with customers on the recall process and progress. TDW has established a Web site which offers three replacement options to customers to register for repair, obtain credit, or request a refund for the LRC. TDW has designated customer service personnel for each region on a global basis to assist with the recall process.

II. Advisory Bulletin (ADB-2013-04)

To: Owners and Operators of Hazardous Liquid and Natural Gas Pipeline Systems.

Subject: Notice to Operators of Natural Gas and Hazardous Liquid Pipelines of a Recall on Leak Repair Clamps Due to Defective Seal.

Advisory: PHMSA is informing all pipeline operators that TDW has deemed its LRCs defective due to the seal contained in every clamp not maintaining adequate pressure causing the clamp to fail. TDW has determined that failure of this clamp may cause a leak that could cause a fire or explosion resulting in injury or death. TDW asks all of its customers to stop using the LRC immediately and return it to TDW and follow up with TDW's recall procedures for the LRC.

PHMSA advises hazardous liquid and natural gas pipeline operators to take the following measures:

• Verify records to determine if a TDW LRC is installed.

• Stop using the TDW LRC immediately.

• Contact TDW and follow up with its recall process.

• TDW Web site: http://lrc.tdwilliamson.com/.

• TDW phone number: 888-770-7085.

Authority: 49 U.S.C. chapter 601; 49 CFR 1.53.

Issued in Washington, DC, on August 22, 2013.
Alan K. Mayberry,
Deputy Associate Administrator for Policy and Programs.

[FR Doc. 2013-20910 Filed 8-27-13; 8:45 am]

BILLING CODE 4910-60-P